DEPARTMENT OF ENERGY

Federal Energy Regulatory Commission

[Project No. 9202-160—Colorado]

Upper Yampa Water Conservancy District; Notice of Availability of Environmental Assessment

September 15, 2009.

In accordance with the National Environmental Policy Act of 1969, as amended, and the Federal Energy Regulatory Commission's (Commission) regulations (18 CFR part 380), the Office of Energy Projects has prepared an environmental assessment (EA) regarding Upper Yampa Water Conservancy District's (District) request for a non-capacity license amendment for the Stagecoach Project (FERC No. 9202) located on the Yampa River in Routt County, Colorado. The District requests Commission approval to amend the project's license to (1) Increase the height of the project dam spillway's crest elevation by 4 feet, and (2) increase the maximum operating storage elevation of Stagecoach Reservoir by 4 feet. This would increase the maximum storage capacity in Stagecoach Reservoir from 33,275 acre-feet to 36,460 acre-feet, and increase the project's potential for increasing downstream water supply. This EA concludes that the proposed license amendment, with staff's recommended mitigation measures, would not constitute a major Federal action significantly affecting the quality of the human environment.

Any comments should be filed within 30 days from the date of this notice and should be addressed to Kimberly D. Bose, Secretary, Federal Energy Regulatory Commission, 888 First Street, NE., Washington, DC 20426. Copies of the EA are available for review in the Commission's Public Reference Room. The EA also may be viewed on the Commission's Web site at http://www.ferc.gov using the “eLibrary” link. Enter the docket number (P-9202) in the docket number field to access the document. For assistance, please contact ferconlinesupport@ferc.gov or call toll-free at (866) 208-3676. For TTY, contact (202) 502-8659.

For further information regarding this notice, please contact B. Peter Yarrington at (202) 502-6129, or via e-mail at peter.yarrington@ferc.gov.

Kimberly D. Bose,
Secretary.

[FR Doc. E9-22718 Filed 9-21-09; 8:45 am]

BILLING CODE 6717-01-P